DEPARTMENT OF COMMERCE

National Oceanic and Atmospheric Administration

The 46th Meeting of the U.S. Coral Reef Task Force

AGENCY: The Coral Reef Conservation Program, Office for Coastal Management, National Ocean Service, National Oceanic and Atmospheric Administration (NOAA), Department of Commerce.

ACTION: Notice of meeting; request for comments.

SUMMARY: NOAA and the Department of Interior (DOI) will hold the 46th meeting of the U.S. Coral Reef Task Force (USCRTF). NOAA and DOI will be accepting oral and written comments.

DATES: NOAA and DOI will hold a public meeting on Friday, April 21, 2023, from 8:30 a.m. to 5 p.m. Eastern Time (ET) at the Department of Interior, Auditorium, 1849 C St. NW, Washington, DC 20240. Written comments must be received before 8 a.m. ET on April 21, 2023.

ADDRESSES: Comments may be submitted by the following methods:

Oral Comments: NOAA and DOI will accept oral comments at the meeting on Friday, April 21, 2023, from 12:30 p.m. to 1 p.m. ET.

Email: Please direct written comments to Michael Lameier, NOAA, USCRTF Steering Committee Point of Contact, NOAA Coral Reef Conservation Program, via email at michael.lameier@noaa.gov. In the subject heading of your email, please include “Written comments for the 46th U.S. Coral Reef Task Force Meeting”.

The oral and written comments NOAA and DOI receive are considered part of the public record, and the entirety of the comment, including the name of the commenter, email address, attachments, and other supporting materials, will be publicly accessible. Sensitive personally identifiable information, such as account numbers and Social Security numbers, should not be included with the comment. Comments that are not related to the USCRTF or that contain profanity, vulgarity, threats, or other inappropriate language will not be considered.

FOR FURTHER INFORMATION CONTACT: Michael Lameier, NOAA USCRTF Steering Committee Point of Contact, NOAA Coral Reef Conservation Program, (410) 267-5673, michael.lameier@noaa.gov, or Liza Johnson, DOI USCRTF Steering Committee Executive Secretary, U.S. Department of Interior, (202) 255-9843, Liza_M_Johnson@ios.doi.gov, or visit the USCRTF website at http://www.coralreef.gov.

SUPPLEMENTARY INFORMATION: The meeting provides a forum for coordinated planning and action among Federal agencies, State and territorial governments, and non-governmental partners. Registration is requested to participate in the meeting. This meeting has time allotted for public oral comment from 12:30 p.m. to 1 p.m. ET. A written summary of the meeting will be posted on the USCRTF website within two months of occurrence. For more information about the meeting, registering for the meeting, and submitting public comments, visit http://www.coralreef.gov. During the oral comment period, commenters are encouraged to address the meeting, the role of the USCRTF, or general coral reef conservation issues.

Authority: Pub. L. 117-263, 136 Stat 2396; E.O. 13089, 63 FR 32701.

Nicole R. LeBoeuf,
Assistant Administrator for Ocean Services and Coastal Zone Management, National Ocean Service, National Oceanic and Atmospheric Administration.

[FR Doc. 2023-06617 Filed 3-29-23; 8:45 am]

BILLING CODE 3510-08-P